Proclamation 10586 of May 19, 2023

National Maritime Day, 2023

By the President of the United States of America

A Proclamation

On National Maritime Day, we honor the thousands of dedicated merchant mariners who serve on United States vessels around the world. During times of both peace and war, merchant mariners are always there—stepping up to transport equipment, troops, and goods across the globe to make our country safer and stronger.

With professionalism and passion, merchant mariners have forged us into the maritime Nation we are today. During the Revolutionary War, merchant vessels joined the vastly outnumbered American fleet to help defend our independence. During World War II, as our brave service members battled the forces of fascism, more than a quarter-million members of the Merchant Marine volunteered to transport tanks, ammunition, and troops across the Atlantic and Pacific theaters. Many of them made the ultimate sacrifice in the service of freedom. And today, merchant mariners not only help move hundreds of billions of dollars' worth of cargo through our 25,000 miles of waterways and more than 360 commercial ports annually—they also crew vessels of our United States Ready Reserve, shipping vital military cargo to help the people of Ukraine defend themselves against Russia's brutal war.

My Administration remains steadfast in its support of the Merchant Marine as well as the Jones Act, which ensures American workers see the benefits of our domestic maritime industry. We are also making historic investments to improve our maritime supply chains by making it easier, faster, cheaper, cleaner, and safer for ships to get in and out of our ports. We are strengthening our support for licensed Merchant Marine Officers, including requesting $196 million in my 2024 Budget to upgrade the United States Merchant Marine Academy's campus, expand training, and help prevent sexual assault and support survivors—because every person at the Academy deserves to feel safe and have their contributions fully valued. We are also working to advance diversity, equity, and inclusion in the ranks of the Merchant Marine because our economy and national security are strongest when we draw on the full skillsets and diversity of our Nation.

The United States Merchant Marine underpins our Nation's prosperity and upholds our Nation's highest principles—freedom, liberty, and dignity. Today, and every day, we honor merchant mariners' service and sacrifice and renew our commitment to stand by their side, from sea to shining sea.

The Congress, by a joint resolution approved May 20, 1933, has designated May 22 of each year as “National Maritime Day” to commemorate the first transoceanic voyage by a steamship in 1819 by the S.S. Savannah. By this resolution, the Congress has authorized and requested the President to issue annually a proclamation calling for its appropriate observance. I also request that all ships sailing under the American flag dress ship on that day.

NOW, THEREFORE, I, JOSEPH R. BIDEN JR., President of the United States of America, do hereby proclaim May 22, 2023, as National Maritime Day. I call upon all Americans to observe this day and to celebrate the United States Merchant Marine and maritime industry with appropriate programs, ceremonies, and activities.

IN WITNESS WHEREOF, I have hereunto set my hand this nineteenth day of May, in the year of our Lord two thousand twenty-three, and of the Independence of the United States of America the two hundred and forty-seventh.

[FR Doc. 2023-11209

Filed 5-23-23; 8:45 am]

Billing code 3395-F3-P